DEPARTMENT OF COMMERCE

Submission for OMB Review; Comment Request

The Department of Commerce will submit to the Office of Management and Budget (OMB) for clearance the following proposal for collection of information under the provisions of the Paperwork Reduction Act (44 U.S.C. Chapter 35).

Agency: Minority Business Development Agency (MBDA).

Title: Online Databases: Performance, Phoenix, and Opportunity.

OMB Control Number: 0640-0002.

Form Number(s): None.

Type of Request: Regular submission.

Number of Respondents: 10,615.

Average Hours per Response: Performance Database, Varies 1 minute to 1 hour and 45 minutes depending on the type of information required; Phoenix Database, 9 minutes; and Opportunity Database, 15 minutes.

Burden Hours: 4,496.

Needs and Uses: As part of its service delivery programs, MBDA awards cooperative agreements each year. The recipient of each agreement is competitively selected to operate one of the following business centers: (1) Minority Business Enterprise Center (MBEC); (2) Native American Business Enterprise Center (NABEC); or (3) Minority Business Opportunity Center (MBOC) in the geographical service area designated by MBDA under the cooperative agreement. The databases allow MBDA to (1) enter the accomplishments of grant recipients (Performance), (2) enter business profiles of minority business enterprises (MBEs) (Phoenix), and (3) match contract opportunities with qualified MBEs captured in the Phoenix database (Opportunity).

Affected Public: Business or other for-profit organizations; Not-for-profit institutions; Individuals or households; Federal, State, local or Tribal government.

Frequency: On occasion, quarterly, annually.

Respondent's Obligation: Voluntary.

OMB Desk Officer: Nicholas Fraser, (202) 395-5887.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to Nicholas Fraser, OMB Desk Officer, FAX number (202) 395-5806, or Nicholas_A._Fraser@omb.eop.gov.

Dated: April 23, 2009.
Gwellnar Banks,
Management Analyst, Office of the Chief Information Officer.

[FR Doc. E9-9675 Filed 4-28-09; 8:45 am]

BILLING CODE 3510-21-P